DEPARTMENT OF TRANSPORTATION

Federal Highway Administration

Uniform Relocation Assistance and Real Property Acquisition Policies Act; Public Meetings

AGENCY: Federal Highway Administration (FHWA), DOT.

ACTION: Notice of public meeting.

SUMMARY: The Federal Highway Administration (FHWA), as the lead Federal agency for the Uniform Relocation Assistance and Real Property Acquisition Policies Act of 1970, as amended (Uniform Act), will hold a series of listening sessions in Washington, DC; Chicago, IL; Atlanta, GA; San Francisco, CA; and Denver, CO. The purpose of the listening sessions is to determine if there is a need to update provisions of the Uniform Act.

DATES: The Uniform Act listening sessions are scheduled from 10 a.m. to 2 p.m. as follows:

March 25, 2004—Washington, DC;

April 1, 2004—Chicago, IL;

April 8, 2004—Atlanta, GA;

April 15, 2004—San Francisco, CA;

April 22, 2004—Denver, CO.

ADDRESSES:

For the March 25, 2004 session:

U.S. Department of Transportation, 400 Seventh Street, SW., Room 6200, Washington, DC 20590.

For the April 1, 2004 session:

Holiday Inn—Chicago City Center, 300 E. Ohio Street, Chicago, IL 60611.

For the April 8, 2004 session:

Atlanta Federal Center, Conference Room B, 61 Forsyth Street, SW., Atlanta, GA 30303.

For the April 15, 2004 session:

Holiday Inn—Downtown, 750 Kearny Street, San Francisco, CA 94108.

For the April 22, 2004 session:

Zang Building, Conference Room 360, 555 Zang Street, Lakewood, CO 80228.

FOR FURTHER INFORMATION CONTACT: Mr. Ronald Fannin, (202) 366-2042, Federal Highway Administration, Office of Real Estate Services; 400 Seventh Street SW., HEPR, Room 3221, Washington, DC 20590, or ronald.fannin@fhwa.dot.gov; or Mr. Reginald Bessmer, (202) 366-2037; Federal Highway Administration, Office of Real Estate Services, 400 Seventh Street, SW., HEPR, Room 3221, Washington, DC 20590; or reginald.bessmer@fhwa.dot.gov, or by FAX at (202) 366-3713. Office hours are from 7:45 a.m. to 4:15 p.m., e.t., Monday through Friday, except Federal holidays.

SUPPLEMENTARY INFORMATION:

Background

The Uniform Act (42 U.S.C. 4601, et seq.) provides for uniform and equitable treatment of persons displaced from their homes, businesses, or farms by Federal and federally assisted programs and establishes uniform and equitable land acquisition policies for Federal and federally assisted programs. On December 17, 2003, the FHWA issued a notice of proposed rulemaking (NPRM) concerning several sections of the regulations that set forth government-wide requirements for implementing the Uniform Act (68 FR 70342). During the public comment period for the NPRM, several areas of concern were raised regarding the Uniform Act that could not be dealt with through the regulatory process.

Therefore, the FHWA has decided to hold five public listening sessions in order to provide the public with an additional opportunity to discuss their concerns directly with agency officials. The FHWA is interested in obtaining additional information from the public to determine whether any changes to the Uniform Act are necessary, and if so, what portions of the statute need to be updated or otherwise revised.

Authority: 23 U.S.C. 315; 42 U.S.C. 4601, et seq.; 49 CFR 1.48; 49 CFR 24.

Issued on: February 19, 2004.
Cynthia J. Burbank,
Associate Administrator for Planning, Environment and Realty.

[FR Doc. 04-4199 Filed 2-24-04; 8:45 am]

BILLING CODE 4910-22-P